DEPARTMENT OF HEALTH AND HUMAN SERVICES

Centers for Disease Control and Prevention

[30Day-19-18FJ]

Agency Forms Undergoing Paperwork Reduction Act Review

In accordance with the Paperwork Reduction Act of 1995, the Centers for Disease Control and Prevention (CDC) has submitted the information collection request titled Evaluation of the Chronic Disease Self-Management Program in the US Affiliated Pacific Islands to the Office of Management and Budget (OMB) for review and approval. CDC previously published a “Proposed Data Collection Submitted for Public Comment and Recommendations” notice on February 2, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Evaluation of the Chronic Disease Self-Management Program in the US Affiliated Pacific Islands—New—National Center for Chronic Disease Prevention and Health Promotion (NCCDPHP), Centers for Disease Control and Prevention (CDC).

Background and Brief Description

NCCDPHP plans to evaluate the first ever implementation of Stanford University's Chronic Disease Self-Management Program (CDSMP) in the US Affiliated Pacific Islands (USAPIs). CDSMP is a 6-week series of workshops for people with arthritis, diabetes, lung disease, cancer, and other health problems. The workshops focus on helping participants learn strategies to manage chronic disease, including techniques to deal with problems such as frustration, fatigue, pain and isolation; appropriate exercise for maintaining and improving strength, flexibility, and endurance; and appropriate use of medications among others. Proven benefits of CDSMP include decreased pain and health distress, increased energy and fatigue, increased physical activity, better communication with health care providers, and increased confidence in managing chronic disease.

The program will be offered repeatedly over the course of three years, which will cover repeated data collections in the USAPIs. These jurisdictions include American Samoa, Guam, the Commonwealth of the Northern Mariana Islands, the Republic of Palau, the Republic of the Marshall Islands, and the Federated States of Micronesia. Because this is the first time CDSMP is being implemented in the USAPIs, we do not know if the intervention, which has proven to improve health outcomes in many ethnic groups within the United States, will lead to improved health outcomes for these communities.

The purpose of the evaluation is to understand how CDSMP is being implemented in the region, to identify barriers and facilitators to implementation, to monitor fidelity to Stanford University's model and document adaptations to the curriculum, and to understand the self-reported effects of the program on program participants. The estimated annual burden hours are 95. There are no costs to respondents other than their time.

Estimated Annualized Burden Hours
Type of respondents | Form name | Number of respondents | Number of responses per respondent | Average burden per response (in hours)
Program Participant | Chronic Disease Self-Management Workshop Evaluation | 190 | 1 | 10/60
Program Participant | Chronic Disease Self-Management Questionnaire (Pre-Post Test) | 190 | 2 | 10/60

Jeffrey M. Zirger,
Acting Lead, Information Collection Review Office, Office of Scientific Integrity, Office of Science, Centers for Disease Control and Prevention.

[FR Doc. 2019-02495 Filed 2-14-19; 8:45 am]

BILLING CODE 4163-18-P